DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in West Sacramento and Sacramento, CA; Chapel Hill and Durham, NC; North Charleston, SC; and cities along the San Francisco to San Jose, CA corridor. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before August 1, 2016.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Downtown/Riverfront Streetcar Project, West Sacramento and Sacramento, CA. Project sponsor: Sacramento Area Council of Governments. Project description: The proposed project would construct a 3.3-mile streetcar extending from the West Sacramento Civic Center to the Midtown entertainment and retail district in Sacramento. The project would include 12 westbound and 13 eastbound stations, two traction power facilities, and a maintenance and storage facility. Final agency actions: Section 4(f) de minimis impact determination; Section 106 finding of no adverse effect; project-level air quality conformity; and Finding of No Significant Impact, dated February 12, 2016. Supporting documentation: Environmental Assessment/Initial Study, dated May 2015.

2. Project name and location: Durham-Orange Light Rail Transit Project, Chapel Hill and Durham, NC. Project sponsor: Research Triangle Regional Public Transportation Authority. Project description: The proposed project would provide a 17.1-mile high capacity light rail transit line between the University of North Carolina Hospitals in southwest Chapel Hill and Alston Avenue in East Durham. The project would operate primarily within an exclusive guideway and includes 17 stations, a rail operations maintenance facility, and related infrastructure. Final agency actions: Section 4(f) de minimis impact determination; Section 106 finding of no adverse effect; project-level air quality conformity; and Final Environmental Impact Statement/Record of Decision, dated February 11, 2016.

3. Project name and location: North Charleston Regional Intermodal Transportation Facility, North Charleston, SC. Project sponsor: Charleston Area Regional Transportation Authority (CARTA). Project description: The proposed project would replace the existing Charleston Amtrak Station with construction of a new intermodal transportation hub serving Amtrak intercity rail, Southeastern Stages intercity bus, and CARTA local and commuter bus. Final agency actions: Section 4(f) determination; a Section 106 Memorandum of Agreement, dated November 24, 2015; project-level air quality conformity; and Finding of No Significant Impact, dated February 2, 2016. Supporting documentation: Environmental Assessment, dated November 2015.

4. Project name and location: Peninsula Corridor Electrification Project (PCEP), municipalities along the San Francisco to San Jose, CA corridor. Project sponsor: Peninsula Corridor Joint Powers Board. Project description: The PCEP would implement capacity improvements along a 51-mile section of the Caltrain Commuter Rail Line from San Francisco to San Jose. The PCEP includes installation of an Overhead Contact System, installation of electrical traction power facilities, construction of new tracks, platform improvements, and the purchase of 90 Electric Multiple Units. The PCEP was previously the subject of a Finding of No Significant Impact, dated December 17, 2009. FTA completed a re-evaluation of the PCEP due to additional traction power facility locations, additional right-of-way acquisitions, and electrical safety zone easements. This notice only applies to the discrete actions taken by FTA at this time, as described below. Nothing in this notice affects FTA's previous decisions, or notice thereof, for this project. Final agency actions: Section 106 finding of no adverse effect and FTA determination that neither a supplemental environmental impact statement nor a supplemental environmental assessment is necessary. Supporting documentation: Re-evaluation, dated February 11, 2016.

Lucy Garliauskas,
Associate Administrator Planning and Environment.

[FR Doc. 2016-04486 Filed 3-1-16; 8:45 am]

BILLING CODE P